DEPARTMENT OF AGRICULTURE

Forest Service

Hood/Willamette Resource Advisory Committee

AGENCY: Forest Service, USDA.

ACTION: Notice of meeting.

SUMMARY: The Hood/Willamette Resource Advisory Committee will meet in Sandy, Oregon. The committee is meeting as authorized under the Secure Rural Schools and Community Self-Determination Act (Pub. L 110-343) and in compliance with the Federal Advisory Committee Act. The purpose of the meeting is have a field trip review of Title II projects by the committee.

DATES: The meeting will be held on September 26, 2011, and begin at 10 a.m

ADDRESSES: The meeting will be held at Mt. Hood National Forest Headquarters; 16400 Champion Way; Sandy, Oregon; (503) 668-1700. Written comments should be sent to Connie Athman, Mt. Hood National Forest, 16400 Champion Way, Sandy, OR 97055. Comments may also be sent via e-mail to cathman@fs.fed.us, or via facsimile to 503-668-1413.

All comments, including names and addresses when provided, are placed in the record and are available for public inspection and copying. The public may inspect comments received at Mt. Hood National Forest, 16400 Champion Way, Sandy, Oregon.

FOR FURTHER INFORMATION CONTACT: Connie Athman, Mt.Hood National Forest, 16400 Champion Way, Sandy, OR, 97055; (503) 668 1672; E-mail: cathman@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Public Forum and; (2) Field Trip to Review Title II Projects. The Public Forum is tentatively scheduled to begin at 10:05 a.m. Time allotted for individual presentations will be limited to 3-4 minutes. Written comments are encouraged, particularly if the material cannot be presented within the time limits for the Public Forum. Written comments may be submitted prior to the September 26th meeting by sending them to Connie Athman at the address given above.

Dated: August 15, 2011.
Chris Worth,
Forest Supervisor.

[FR Doc. 2011-21840 Filed 8-24-11; 8:45 am]

BILLING CODE 3410-11-P